DEPARTMENT OF TRANSPORTATION

Federal Aviation Administration

14 CFR Part 71

[Docket No. FAA 2003-16091; Airspace Docket No. ASD 03-AGL-12]

RIN 2120-AA66

Proposed Establishment of Federal Airway V-19; OH

AGENCY: Federal Aviation Administration (FAA), DOT.

ACTION: Notice of proposed rulemaking, (NPRM).

SUMMARY: This action proposes to establish Federal Airway 19 (V-19) northeast of the Cincinnati, OH, Very High Frequency Omni-directional Range/Tactical Air Navigation (VORTAC). This action would reduce congestion on V-5 between Cincinnati, OH, and Columbus, OH, and enhance the management of aircraft operations over the Cincinnati, OH, area.

DATES: Comments must be received on or before January 23, 2004.

ADDRESSES: Send comments on this proposal to the Docket Management System, U.S. Department of Transportation, Room Plaza 401, 400 Seventh Street, SW., Washington, DC 20590-0001. You must identify FAA Docket No. 2003-16091 and Airspace Docket No. 03-AGL-12, at the beginning of your comments. You may also submit comments on the Internet at http://dms.dot.gov.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2003-16091 and Airspace Docket No. 03-AGL-12) and be submitted in triplicate to the Docket Management System (see ADDRESSES section for address and phone number). You may also submit comments through the Internet at http://dms.dot.gov.

Commenters wishing the FAA to acknowledge receipt of their comments on this notice must submit with those comments a self-addressed, stamped postcard on which the following statement is made: “Comments to FAA Docket No. FAA-2003-16091 and Airspace Docket No. 03-AGL-12.” The postcard will be date/time stamped and returned to the commenter.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of NPRMs

An electronic copy of this document may be downloaded through the Internet at http://dms.dot.gov. Recently published rulemaking documents can also be accessed through the FAA's Web page at http://www.faa.gov or the Superintendent of Document's Web page at http://www.gpoaccess.gov/fr/index.html.

Persons interested in being placed on a mailing list for future NPRMs should call the FAA's Office of Rulemaking, (202) 267-9677, for a copy of Advisory Circular No. 11-2A, Notice of Proposed Rulemaking Distribution System, which describes the application procedure.

Background

A review of aircraft operations in the Cincinnati terminal area has identified a need to reduce congestion on V-5 between Columbus, OH and Cincinnati, OH. This congestion is the result of en route aircraft and other aircraft arriving at the Cincinnati/Northern Kentucky International Airport (CVG), while both navigating on V-5. The FAA believes that establishing a new Federal Airway (V-19) to the south of V-5 would relieve the congestion and enhance the management of aircraft operations by providing an alternate route between Cincinnati, OH and Columbus, OH.

The Proposal

The FAA is proposing an amendment to Title 14 Code of Federal Regulations (14 CFR) part 71 (part 71) to establish V-19 in the Cincinnati, OH, area. Specifically, this action proposes to establish V-19 between Cincinnati, OH and Columbus, OH, to the south of V-5 and to the north of the Buckeye Military Operations Area. Establishment of this new airway would reduce congestion on V-5 and enhance the management of aircraft operations over the Cincinnati, OH, area.

Federal airways are published in paragraph 6010(a) of FAA Order 7400.9L dated September 2, 2003, and effective September 16, 2003, which is incorporated by reference in 14 CFR 71.1. The Federal airway listed in this document would be published subsequently in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9L, Airspace Designations and Reporting Points, dated September 2, 2003, and effective September 16, 2003, is amended as follows:

Paragraph 6010(a)—Domestic VOR Federal Airways

* * * * *

V-19 (New)

From Cincinnati, OH; INT Cincinnati 063°T (067°M) and Appleton, OH, 229°T (235°M) radials; Appleton.

* * * * *

Issued in Washington, DC, on December 2, 2003.
Reginald C. Matthews,
Manager, Airspace and Rules Division.

[FR Doc. 03-30450 Filed 12-8-03; 8:45 am]

BILLING CODE 4910-13-P